DEPARTMENT OF TRANSPORTATION

Federal Aviation Administration

Notice of Intent To Rule on Request To Release Airport Property at the Robertson Airport, Plainville, Connecticut

AGENCY: Federal Aviation Administration (FAA), DOT.

ACTION: Notice of request to release airport property.

SUMMARY: The FAA proposes to rule and invites public comments on the release of 0.9 acres of land at Robertson Airport, Plainville, Connecticut. The FAA is providing notice of a release of Federal obligations for 0.9 acres of landside airport property which also encompasses 0.4 acres for slope easements and a drainage right of way at Robertson Airport, Plainville, Connecticut, for the purpose of a planned extension of a multi-use public recreation trail.

DATES: Comments must be received on or before September 30, 2025.

ADDRESSES: Comments on this application may be mailed or delivered to the FAA at the following address: Lisa J. Lesperance, Federal Aviation Administration, Airports Division, 1200 District Ave., Room 3000, Burlington, MA 01803.

In addition, one copy of any comments submitted to the FAA must be mailed or delivered to: Michael T. Paulhus, Town Manager, Town of Plainville, One Central Square, Plainville, CT 06062-1955.

FOR FURTHER INFORMATION CONTACT: Ms. Lisa J. Lesperance, Lead Community Planner, Federal Aviation Administration New England Region Airports Division, 1200 District Avenue, Burlington, Massachusetts 01803. Telephone: 781-238-7616, lisa.lesperance@faa.gov.

SUPPLEMENTARY INFORMATION: The FAA invites public comment on the request to release of all FAA obligations for 0.9 acres of landside airport property at Robertson Airport (4B8) under the provisions of 49 U.S.C. 47107(h)(2). The Town Manager has requested from the FAA the release of airport property be released for sale. The FAA determined the request to release and sell property at Robertson Airport (4B8) meets the procedural requirements of the Federal Aviation Administration and the release and sale of the property does not and will not impact future aviation needs at the airport. The FAA may approve the request, in whole or in part, no sooner than thirty days after the publication of this Notice.

The following is a brief overview of the request: Robertson Field Airport (4B8) is proposing a release of Federal obligations for 0.9 acres of landside airport property, which also encompasses 0.4 acres for slope easements and a drainage right of way, for the purpose of a planned extension of a multi-use public recreation trail. The sale of the subject property will result in the release of land and surface rights at Robertson Airport (4B8) from the conditions of the AIP Grant Agreement Grant Assurances. In accordance with 49 U.S.C. 47107(c)(2)(B)(i) and (iii), the airport will receive fair market value, and the property will be used for recreational purposes.

This release does not constitute a commitment by the FAA to financially assist in the disposal of the subject airport properties nor a determination of eligibility for grant-in-aid funding from the FAA.

Issued in Burlington, Massachusetts on August 26, 2025.
Julie Seltsam-Wilps,
Deputy Director, ANE-600.

[FR Doc. 2025-16476 Filed 8-27-25; 8:45 am]

BILLING CODE P